DEPARTMENT OF COMMERCE

International Trade Administration

Massachusetts Institute of Technology et al.; Notice of Decision on Application for Duty-Free Entry of Scientific Instruments

This is a decision pursuant to section 6(c) of the Educational, Scientific, and Cultural Materials Importation Act of 1966 (Pub. L. 89-651, as amended by Pub. L. 106-36; 80 Stat. 897; 15 CFR part 301). OnJuly 25, 2024, the Department of Commerce published a notice in the Federal Register requesting public comment on whether instruments of equivalent scientific value, for the purposes for which the instruments identified in the docket(s) below are intended to be used, are being manufactured in the United States. See Application(s) for Duty-Free Entry of Scientific Instruments, 89 FR60354-55, July 25, 2024 (Notice). We received no public comments.

Comments: None received. Decision: Approved. We know of no instruments of equivalent scientific value to the foreign instruments described below, for such purposes as this is intended to be used, that were being manufactured in the United States at the time of order.

Docket Number: 24-010. Applicant: Massachusetts Institute of Technology, 77 Massachusetts Avenue, Cambridge, MA 02114. Instrument: Fiber Laser. Manufacturer: PreciLasers, China. Intended Use: The instrument will be used to study Potassium 40 atoms that are fermionic alkali atoms; their alkali electronic structure makes them straight-forward to trap and manipulate using lasers. The potassium 40 atoms will first be cooled sympathetically by sodium 23 atoms, then transferred into a series of optical traps, which will use the lasers ordered from PreciLasers. The final optical trap will be a 2D square optical lattice, where additional optical potentials and magnetic fields will be applied, and the response of the atoms observed through a microscope.

Docket Number: 24-012.Applicant: The University of Texas at Austin, BEG—JJ Pickle Research Campus, 10100 Burnet Road, Building 130, Austin, TX 78758.

Instrument: Ocean Alpha SL20-Autonomous Survey Boat. Manufacturer: Ocean Alpha Group Ltd., China. Intended Use: According to the applicant, the instrument is intended to be used as an unmanned surface vehicle (USV) that is designed to survey the depths of inland waters where it is not accessible for UT Austin staff. USV will have complimentary use of the in-house airborne lidar system (Lecia Chiroptera-5) where lidar derived depths require verification. UT Austin staff will be able to deploy the USV from a shoreline, and control it remotely, with safety.

Docket Number: 24-017.Applicant: State University of New York at Stony Brook, 100 Nicolls Road, 230 Admin Building, Stony Brook, NY 11794. Instrument: 556 nm high power, narrow linewidth laser. Manufacturer: Shanghai Precilasers Technology Co., Ltd., China. Intended Use: According to the applicant, the instrument is intended to be used in a quantum optics apparatus using Ytterbium atoms in an ultrahigh vacuum environment. The experiment will laser cool and trap single Ytterbium atoms and interface them with single photons in an optical cavity. The importance is the long-lived clock states of Ytterbium atoms, as well as the hyperfine ground states, both of which are excellent to use as qubits in a quantum device and store quantum information for a long time.

Docket Number: 24-018. Applicant: Harvard University, 17 Oxford Street, Cambridge, MA 02138. Instrument: Single Frequency Fiber Laser. Manufacturer: Shanghai Precilasers Technology Co., Ltd., China. Intended Use: According to the applicant, the instrument is intended to be used to explore methods of taking full control of the internal and external degrees of freedom of single diatomic molecules (calcium monofluoride, CaF) for various quantum applications. The interest is in quantum simulation of lattice-spin models using CaF molecules trapped in an optical tweezer array. To load CaF molecules into an optical tweezer array, they must be first laser slowed and laser cooled to very low temperature and high density. The laser cooling transition used here is one of the only two desired strong electronic transitions in CaF molecules that possesses a diagonal Frank-Condon factor which supports scattering many photons with reasonable number of repump lasers. This laser system will be used to perform the above work in a research laboratory in the Department of Physics at Harvard University. The research work enabled by this system is part of the training of graduate students, undergraduate students, and postdoctoral research fellows.

Docket Number: 24-019. Applicant: Harvard University, Department of Physics, 60 Oxford Street, Cambridge, MA 02138. Instrument: Fiber Laser. Manufacturer Shanghai Precilasers Technology Co., Ltd., China. Intended Use: According to the applicant, the instrument is intended to be used for Ytterbium (Yb) atom's dipolar interaction. When Yb atoms excite their Rydberg states, there will be a strong dipolar interaction between the atoms. This interaction is also long-range. The main techniques used will be a) ultra-high vacuum techniques and b) laser stabilization techniques.The instrument will be used to educate undergraduate and graduate students.

Dated: September 5, 2024.
Gregory W. Campbell,
Director, Subsidies and Economic Analysis, Enforcement and Compliance.

[FR Doc. 2024-20534 Filed 9-10-24; 8:45 am]

BILLING CODE 3510-DS-P